DEPARTMENT OF COMMERCE

International Trade Administration

[A-583-008]

Certain Circular Welded Carbon Steel Pipes and Tubes from Taiwan: Final Results of Antidumping Duty Changed Circumstance Review

AGENCY: Import Administration, International Trade Administration, Department of Commerce.

SUMMARY: On April 4, 2005, the Department of Commerce (the Department) published a notice of initiation of changed circumstance review of the antidumping order on certain circular welded carbon steel pipes and tubes from Taiwan to determine whether Yieh Phui Enterprise, Ltd. (Yieh Phui) is a successor-in-interest to Yieh Hsing Enterprise, Ltd. (Yieh Hsing). See Certain Circular Welded Carbon Steel Pipes and Tubes From Taiwan: Initiation of Antidumping Duty Changed Circumstance Review, 70 FR 17063 (April 4, 2005) (Initiation Notice). On October 17, 2005, the Department published a notice of preliminary results of this changed circumstance review in which we preliminarily determined that Yieh Phui is the successor-in-interest to Yieh Hsing for purposes of determining antidumping liability. We gave interested parties the opportunity to comment after publication of the Preliminary Results. See Certain Circular Welded Carbon Steel Pipes and Tubes from Taiwan: Prelminary Results of Antidumping duty Changed Circumstance Review, 70 FR 60279 (October 17, 2005) (Preliminary Results). No comments were received; thus, the Department is adopting its preliminary determination for these final results.

EFFECTIVE DATE: November 30, 2005.

FOR FURTHER INFORMATION CONTACT: Angela Strom or Robert James at (202) 482-2704 or (202) 482-0649, respectively; AD/CVD Operations, Office 7, Import Administration, International Trade Administration, Department of Commerce, 14th Street and Constitution Ave. NW., Washington DC 20230.

SUPPLEMENTARY INFORMATION:

Background

On February 15, 2005, Yieh Phui requested the Department to conduct an expedited changed circumstance review of the antidumping duty order on certain circular welded carbon steel pipes and tubes from Taiwan. The Department determined that the information submitted by Yieh Phui was sufficient to warrant initiation of changed circumstance review and, on April 4, 2005, the Department published the Initiation Notice for this review. Yieh Phui claims to be a successor-in-interest to Yieh Hsing after it acquired Yieh Hsing's pipe production facilities. On April 6, 2005, the Department issued Yieh Phui a questionnaire requesting further details on the acquisition of the pipe facilities. Yieh Phui responded on April 29, 2005. On May 17, 2005, the Department issued a second supplemental questionnaire, to which Yieh Phui responded on June 13, 2005.

The evidence on the record shows that Yieh Phui operates in essentially the same manner in terms of production, management and customer base as did Yieh Hsing prior to the transfer of its pipe facilities. In analyzing the totality of the factors on the record with respect to the transfer of the pipe operations, the Department preliminarily concluded that Yieh Phui was the successor-in-interest to Yieh Hsing and ought to be accorded the same antidumping duty treatment as its predecessor. See Preliminary Results.

Scope of the Order

Imports covered by this order are shipments of certain circular welded carbon steel pipes and tubes. The Department defines such merchandise as welded carbon steel pipes and tubes of circular cross section, with walls not thinner than 0.065 inch and 0.375 inch or more but not over 4.5 inches in outside diameter. These products are commonly referred to in the industry as “standard pipe” and are produced to various American Society for Testing Materials specifications, most notably A-53, A-120 and A-135. Standard pipe is currently classified under Harmonized Tariff Schedule of the United States (HTSUS) item numbers 7306.30.5025, 7306.30.5032, 7306.30.5040, and 7306.30.5055. Although the HTSUS subheadings are provided for convenience and customs purposes, the written description of the merchandise under the order is dispositive.

Final Results of Changed Circumstance Review

For the reasons stated in the Preliminary Results, we determine that Yieh Phui is the successor-in-interest to Yieh Hsing for antidumping duty purposes. The Department did not receive any comments or requests for a hearing from either party within the time frames established in the Preliminary Results. As a result, Yieh Phui will receive the same antidumping duty cash-deposit rate (i.e., 1.61 percent) that was calculated and applied to Yieh Hsing during the most recent administrative review under this order. See Certain Circular Welded Carbon Steel Pipes and Tubes from Taiwan: Final Results of Antidumping Duty Administrative Review, 69 FR 58390 (September 30, 2004). The Department will instruct the U.S. Customs and Border Protection to collect cash deposits at a rate of 1.61 percent for all entries made by Yieh Phui of the subject merchandise entered, or withdrawn from warehouse, for consumption on or after the date of publication of the final results of this changed circumstance review.

Notification Regarding APOs

This notice also serves as a reminder to parties subject to administrative protective orders (APOs) of their responsibility concerning the disposition of proprietary information disclosed under APO in accordance with 19 CFR 351.305(a)(3). Timely written notification of the return/destruction of APO materials or conversation to judicial protective order is hereby requested. Failure to comply with the regulations and the terms of an APO is a sanctionable violation.

The notice is in accordance with sections 751(b)(1) and 777(I)(1) of the Act, and 19 CFR 351.216.

Dated: November 23, 2005.
Joseph A. Spetrini
Acting Assistant Secretary for Import Administration.

[FR Doc. E5-6711 Filed 11-30-05; 8:45 am]

BILLING CODE 3510-DS-S